DEPARTMENT OF HEALTH AND HUMAN SERVICES

[Document Identifier: OS-4040-0020]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 8, 2025.

ADDRESSES: Submit your comments to sagal.musa@hhs.gov or by calling 202-578-5441.

FOR FURTHER INFORMATION CONTACT: When submitting comments or requesting information, please include the document identifier 4040-0020-60D and project title for reference, to Sagal Musa, email: sagal.musa@hhs.gov or call 202-578-544, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: SF-424 Mandatory Form.

Type of Collection: Extension.

OMB No.: 4040-0020.

Abstract: The Standard 424 Mandatory form provides the Federal grant-making agencies an alternative to the Standard Form 424 data set and form. Agencies may use SF-424 Mandatory Form for grant programs not required to collect all the data that is required on the SF-424 core data set and form.

Type of Respondent: The SF-424 Mandatory form is used by organizations to apply for Federal financial assistance in the form of grants. This form is submitted to the Federal grant-making agencies for evaluation and review. This IC expires on February 26, 2026. Grants.gov seeks a three-year clearance of these collections.

Annualized Burden Hour Table
Forms (if necessary) | Respondents (if necessary) | Number of respondents | Number of responses per respondents | Average burden per response | Total burden hours
SF424 Mandatory Form | Grant Applicants | 5,761 | 1 | 1 | 5,761
Total |  | 5,761 | 1 | 1 | 5,761

Catherine Howard,
Paperwork Reduction Act Reports Clearance Officer, Department of Health and Human Services, Office of the Secretary.

[FR Doc. 2025-12797 Filed 7-9-25; 8:45 am]

BILLING CODE 4151-AE-P